DEPARTMENT OF AGRICULTURE

Submission for OMB Review; Comment Request

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 8, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Qualitative Research on Food Safety Behaviors Among Parents and Caregivers who prepare meals for minors or older adults. In Depth Interview Research.

OMB Number: 0583-NEW.

Type of Request: Request for a new information collection.

Abstract: FSIS is announcing its intention to collect information from interviews on consumer food safety knowledge, attitudes, and behaviors. FSIS will also collect consumer responses to food safety messages related to home cooking to gather feedback on message content and format.

FSIS' Office of Public Affairs and Consumer Education makes sure members of the American public are equipped with the tools they need to reduce their risk of foodborne illness by teaching the public how to safely handle, prepare, and store food. Consumer education campaigns developed by OPACE's staff are created to promote safe food handling procedures and reduce the likelihood of foodborne illness.

To extend its commitment to educating the public about food safety, FSIS is seeking to focus on the parents and caregivers or those who are providing care and preparing meals to at least one child or one older adult, as a priority audience for this new food safety campaign.

Need and Use of the Information: Preliminary research is necessary to learn more about how to best tailor campaign messages to suit the needs of the audiences of focus. The goal of the proposed research study is to learn more about African American/Black and Hispanic/Latino parent and caregiver knowledge, attitudes, and current behaviors regarding food safety. The information collected from this research will be used to develop and tailor messages to suit audience needs. Further, audience feedback about draft messaging strategies and approaches is necessary to ensure that campaign messages will appeal to audiences.

Information will be used to develop and disseminate effective messaging to help reduce foodborne illness among parents and caregivers. The lack of information in this area would impede the Agency's ability to provide more useful information to consumers to help reduce foodborne illness in the United States. The final goal will be to gather feedback on proposed FSIS food safety messages and understand their possible influence on future food safety behaviors among consumers.

Description of Respondents: Individuals/Households (Parents and Caregivers).

Number of Respondents: 3,050.

Frequency of Responses: Reporting: Annually.

Total Burden Hours: 547.

Rachelle Ragland-Greene,
Acting Departmental Information Collection Clearance Officer.

[FR Doc. 2024-06721 Filed 3-28-24; 8:45 am]

BILLING CODE 3410-DM-P